DEPARTMENT OF THE INTERIOR

Fish and Wildlife Service

Notice of scoping Meeting on Intent To Prepare a Habitat Conservation Plan and Environmental Impact Statement in Anticipation of Receiving an Endangered Species Section 10(a)(1)(B) Permit Application to Incidentially Take Listed Species From the San Marcos and Comal Springs Ecosystems by the Edwards Aquifer Authority in Their Efforts to Manage Underground Water Withdrawals From the Southern Edwards Aquifer

AGENCY: Interior, U.S. Fish and Wildlife Service, Austin U.S. Fish and Wildlife Service Office Complex, Austin, Texas.

ACTION: Notice of intent to conduct scoping meetings and prepare a Habitat Conservation Plan (HCP) and Environmental Impact Statement (EIS).

SUMMARY: This notice advised the public that the U.S. Fish and Wildlife Service (Service) intends to gather information necessary to prepare an EIS for an anticipated incidental take permit applications, including a required HCP by the Edwards Aquifer Authority (Authority) of San Antonio, Texas. The application is for the Authority's management of the water withdrawals from the Edwards Aquifer, which directly affects the flow of two south central Texas springs: Comal and San Marcos Springs. The Authority is requesting a Permit for seven endangered and one threatened species. The endangered species include the Texas blind salamander (Typhlomolge rathbuni), fountain darter (Etheostoma fonticola), San Marcos gambusia (Gambusia georgei), Texas wild-rice (Zizania texana), Comal Springs riffle beetle (Heterelmis comalensis), Comal Springs dyopid beetle (Stygoparnus comalensis), and Peck's cave amphipod (Stygobromus pecki). The threatened species is the San Marcos salamander (Eurycea nana). The Authority also plans to seek coverage for Cagle's map turtle (Graptemys caglei) not currently listed, but occurring in the Guadalupe River upstream and downstream of Comal Springs. Based on the requirements of the Endangered Species Act (ESA), the Authority will prepare a HCP that includes measure to minimize and mitigate any taking of species that may occur incidental to the permitted withdrawal of groundwater from the Edwards Aquifer.

This notice is provided as required by the ESA of 1973, as amended (16 U.S.C. 1531 et seq.), (50 CFR 17.22) and National Environmental Policy Act (40 CFR 1501.7) regulations.

DATES: Written comments from all interested parties must be received on or before 20 March 2000. Public scoping meetings for receipt of comments will be held on 28 February in Uvalde, 29 February in San Antonio, and 1 March 2000 in San Marcos, Texas.

ADDRESSES: Comments and requests for information should be sent to the U.S. Fish and Wildlife Service, ATTN: Mary Orms, 10711 Burnet Road, Suite 200, Austin, TX 78758; telephone (512) 490-0057; facsimile (512) 490-0974. Comments and materials received will be available for public inspection, by appointment, during normal business hours at the same address. Questions regarding the HCP should be directed to Robert Hall, Edwards Aquifer Authority, 1615 N. St. Mary's St., P.O. 15830, San Antonio, TX 78212-9030.

SUPPLEMENTARY INFORMATION:

Background

The Service is soliciting information and comments on the scope of issues to be addressed in the EIS. The National Environmental Policy Act (NEPA) process is intended to help public officials make decisions that are based on understanding of environmental consequences, and take actions that protect, restore, and enhance the human environment. NEPA scoping procedures are intended to insure that information on the proposed action, alternatives and impacts are solicited from the public and that all information is available to public officials and citizens before planning decisions are made. Accurate scientific analysis, expert agency comments and public scrutiny are essential to implementing NEPA. NEPA documents concentrate on the issues that are significant to the action in question. The Service invites the public to submit information and comments either in writing or at any of the three scheduled meetings. The Uvalde meeting is scheduled for 6 p.m. on 28 February 2000 at the Sgt. Willie DeLeon Civic Center Reading Room in Uvalde, Texas. The San Antonio meeting is scheduled for 7 p.m. on 29 February 2000 in the Conference Room of the Edwards Aquifer Authority, 1615 N. St. Mary's, San Antonio, Texas, The San Marcos meeting will be held at 7 p.m. on 1 March 2000 at the San Marcos Community Center in San Marcos, Texas. The service requests that comments be as specific as possible.

Major environmental and species concerns in this scoping process include the direct, indirect, and cumulative impacts that implementation of the proposal could have on endangered and threatened species, critical habitat and other environmental resources, and the quality of the human environment. Other relevant issues include effects of aquifer and water withdrawal levels on Comal and San Marcos spring flows, effects of various aquifer water use management options and alternative water supply options on the environments affected by those options, and effects on the downstream environment.

The Service proposes to prepare an EIS to evaluate the impacts of alternatives associated with issuing an incidental take permit under section 10(a)1(B) of the ESA. The Authority, a political subdivision of the State of Texas, is charged with the duty to manage, conserve, preserve and protect the Edwards Aquifer and have indicated an interest in pursuing incidental take authorization.

Section 9 of the ESA prohibits the taking of federally listed animal species, unless authorized under the provisions of section 7 or 10 of the ESA. The term “take” under the ESA includes actions that may directly kill or injure listed species, actions that significantly disrupt normal behavioral patterns such as feeding and breeding, and actions that detrimentally modify habitat to the extent that is harms individuals of the species.

Section 10(a)(1)(B) allows the Service to permit taking of listed species provided that taking is incidental to an otherwise legal activity and that it will not jeopardize a listed species. A HCP must be submitted as part of the incidental take permit application by the applicant.

The San Marcos and Comal Springs Ecosystems are dependent upon adequate spring flow from the San Antonio Segment of the Edwards Aquifer to support, endangered species and critical habitat, as well as several species proposed for federal listing. The Edwards Aquifer is the sole source of water for over 1.5 million people who live over the aquifer. Given the growing water use anticipated in the southern Edwards Aquifer region, an overall management plan seems necessary to assure the sustained spring flow in the two systems.

Decline of spring flow in the two systems will result in “take” of listed species and in an appreciable reduction of the value of critical habitat, and an appreciable reduction in the likelihood of survival and recovery of listed species. The Service has estimated minimum spring flow for the two systems necessary to avoid any of these conditions.

The Authority proposes to adopt a HCP consistent with objectives of the approved San Marcos and Comal Springs and Associated Aquatic Ecosystems (Revised) Recovery Plan for the spring associated ecosystems, with the Federal court ruling, and with Sections 9 and 10 of the ESA. The Authority's intention in developing the HCP is to establish a comprehensive approach to protect federally listed species and their habitats as affected by groundwater withdrawals from the aquifer. Activities proposed for coverage under the Permit may include management and permitting of certain water withdrawals from the Edwards Aquifer within the jurisdiction of the EAA, and habitat conservation measures to mitigate impacts of changes in flows of Comal Springs in New Braunfels, Texas; San Marcos Springs in San Marcos, Texas; and/or the Guadalupe River.

In addition to considering impacts on listed species and their habitat, the EIS must include information on impacts from the proposal and alternatives to the proposal on other components of the human environment. These other components include such things as air and water quality, cultural resources, other fish and wildlife species, social resources, and economic resources.

The Service is gathering information necessary for the preparation of an EIS. Information such as the following topics that would assist the Service in assessing the impacts of the issuance of an incidental take permit under the provisions of an HCP is being sought: the hydrogeology of the Edwards Aquifer and the effects of aquifer levels on spring flows at Comal and San Marcos Springs as they relate to the habitat needs of federally listed species; potential water conservation measures and strategies to reduce the withdrawal demands on the Edwards Aquifer and their effects on spring flows; alternate water supplies and their potential effect on reducing Edwards Aquifer water withdrawals and maintaining spring flows; effects of aquifer level management and spring flow changes on the quality of the issues; or suggestions that would be relevant toward the Service's review and development of alternatives.

William Seawell,
Assistant Supervisor, Austin U.S. Fish and Wildlife Service Office Complex, Austin, Texas.

[FR Doc. 00-3790 Filed 2-16-00; 8:45 am]

BILLING CODE 4310-55-M